DEPARTMENT OF AGRICULTURE

Animal and Plant Health Inspection Service

[Docket No. 04-081-2]

Notice of Availability of a Document Concerning the Identification of EU Administrative Units

AGENCY: Animal and Plant Health Inspection Service, USDA.

ACTION: Notice of availability.

SUMMARY: We are advising the public that we are finalizing, with minor changes, a draft document that had been prepared by the Animal and Plant Health Inspection Service to identify the smallest administrative jurisdictions within 11 Member States of the European Union that we would consider “regions” in the event of future animal disease outbreaks. The draft document referred to these jurisdictions as “administrative units” and also reevaluated the administrative units already identified for Italy.

FOR FURTHER INFORMATION CONTACT: Dr. Chip Wells, Senior Staff Veterinarian, Regionalization Evaluation Services Staff, National Center for Import and Export, VS, APHIS, 4700 River Road Unit 38, Riverdale, MD 20737-1231; (301) 734-4356.

SUPPLEMENTARY INFORMATION:

Background

On April 21, 2005, the Animal and Plant Health Inspection Service (APHIS) published in the Federal Register a notice (70 FR 20733-20734, Docket No. 04-081-1) in which we announced the availability of, and requested comments on, a draft document entitled “APHIS Considerations on the Identification of Administrative Units for Certain Member States of the European Union.” This draft document identified the smallest administrative jurisdictions within 11 Member States of the European Union (EU) that we would consider “regions” in the event of future animal disease outbreaks. In the draft document we referred to those regions as “administrative units” (AUs). These Member States are: Austria, Belgium, Denmark, Finland, Greece, Ireland, Luxembourg, the Netherlands, Portugal, Sweden, and the United Kingdom. We also reevaluated the AUs already identified for Italy.

Comments on the draft document were required to be received on or before June 20, 2005. We received one comment by that date, from the European Communities (EC). The EC was generally supportive of the draft document, however they requested confirmation that APHIS intends to implement regionalization of Member States of the EU to the AU level for other animal diseases in addition to classical swine fever. As stated in the notice, the concept of regionalization to the AU level is not disease-specific and would apply for all animal diseases.

The EC also requested that APHIS identify AUs in the 10 new EU Member States which APHIS would consider the smallest possible administrative jurisdiction with effective control over animal movement and control of animal disease in those Member States. APHIS plans to identify AUs for the 10 new EU Member States as those countries are evaluated. In November 2004, APHIS' Veterinary Services (VS) conducted site visits to Hungary, Slovakia, Poland, and Lithuania, and site visits to Slovenia and Estonia are planned for fall 2005. Site visits to the Czech Republic and Latvia are currently underway. VS plans to identify the appropriate AU for each of these Member States in the risk analyses that result from their evaluations. At this time, VS has not received sufficient information from Malta and Cyprus to begin its evaluations in those Member States.

The EC also stated that the name of the Swedish governmental agencies mentioned on page 13 of the draft document were not correctly translated. We have corrected those errors in the finalized version of the document and use the proper translations provided by the EC. The final version of the document with those changes may be viewed on the Internet at http://www.aphis.usda.gov/vs/ncie/reg-request.html. At the bottom of that Web site page, click on “Information previously submitted by Regions requesting export approval and supporting documentation.” At the next screen, click on the triangle beside “European Union/Not Specified/Classical Swine Fever,” then click on the triangle beside “Response by APHIS,” which will reveal a link to the document.

Done in Washington, DC, this 25th day of July 2005.
Elizabeth E. Gaston,
Acting Administrator, Animal and Plant Health Inspection Service.

[FR Doc. E5-4061 Filed 7-28-05; 8:45 am]

BILLING CODE 3410-34-P